DEPARTMENT OF JUSTICE

Notice of Lodging of Proposed Consent Decree Under the Clean Air Act

On December 23, 2024, the Department of Justice lodged a proposed consent decree with the United States District Court for the District of South Carolina in United States v. LANXESS Corporation, Civil Action No. 24-cv-07522.

The United States filed this lawsuit under Clean Air Act (CAA) Section 113(b), 42 U.S.C. 7413(b), seeking a civil penalty and injunctive relief for the Defendant LANXESS Corporation's failures at its Charleston, South Carolina manufacturing facility to properly (1) identify and monitor equipment that can leak hazardous air pollutants; (2) control and monitor wastewater treatment processes; (3) calculate the status of batch process vents; and (4) adhere to recordkeeping requirements. The consent decree requires the Defendant to perform injunctive relief to come into compliance with the Clean Air Act, pay a civil penalty of $650,000, and spend at least $3.545 million performing supplemental environmental projects.

The publication of this notice opens a period for public comment on the proposed consent decree. Comments should be addressed to the Assistant Attorney General, Environment and Natural Resources Division, and should refer to United States v. LANXESS Corporation, D.J. Ref. No. 90-5-2-1-12671. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed consent decree may be examined and downloaded at this Justice Department website: https://www.justice.gov/enrd/consent-decrees. If you require assistance accessing the proposed consent decree, you may request assistance by email or by mail to the address provided above for submitting comments.

Scott Bauer,
Assistant Section Chief, Environmental Enforcement Section, Environment and Natural Resources Division.

[FR Doc. 2024-31377 Filed 12-30-24; 8:45 am]

BILLING CODE P